DEPARTMENT OF HEALTH AND HUMAN SERVICES

Health Resources and Services Administration

National Advisory Committee on Rural Health and Human Services

AGENCY: Health Resources and Services Administration (HRSA), Department of Health and Human Services (HHS).

ACTION: Notice.

SUMMARY: In accordance with the Federal Advisory Committee Act, this notice announces that the Secretary's National Advisory Committee on Rural Health and Human Services (NACRHHS) has scheduled a public meeting. Information about NACRHHS and the agenda for this meeting can be found on the NACRHHS website at https://www.hrsa.gov/advisory-committees/rural-health/index.html.

DATES: September 9, 2019, 8:30 a.m.-5:15 p.m. Eastern Time (ET). September 10, 2019, 8:30 a.m.-5:15 p.m. ET. September 11, 2019, 8:30 a.m.-11:15 a.m. ET.

ADDRESSES: This meeting will be held in-person at the Hubert H. Humphrey Building, located at 200 Independence Avenue SW, Washington, DC 20201, on September 9, 2019. The meeting will be held in-person at the Residence Inn Washington, Capitol located at 333 E St. SW, Washington, DC 20024, on September 10, 2019, and September 11, 2019.

FOR FURTHER INFORMATION CONTACT: Steven Hirsch, Administrative Coordinator at the Federal Office of Rural Health Policy, HRSA, 5600 Fishers Lane, 17W59D, Rockville, Maryland 20857; 301-443-7322; or shirsch@hrsa.gov.

SUPPLEMENTARY INFORMATION: NACRHHS provides advice and recommendations to the Secretary of HHS (Secretary) on policy, program development, and other matters of significance concerning both rural health and rural human services.

During the September 9, 2019, through September 11, 2019, meeting, NACRHHS will examine the current delivery of health care and human services in rural areas. Agenda items are subject to change as priorities dictate. Refer to the NACRHHS website for any updated information concerning the meeting.

Members of the public will have the opportunity to provide comments. Public participants may submit written statements in advance of the scheduled meeting. Oral comments will be honored in the order they are requested and may be limited as time allows. Requests to submit a written statement or make oral comments to NACRHHS should be sent to Steven Hirsch, using the contact information above, at least three business days prior to the meeting. Individuals who plan to attend and need special assistance or another reasonable accommodation should notify Steven Hirsch at the address and phone number listed above at least 10 business days prior to the meeting. Since the meeting on September 10, 2019, occurs in a federal government building, attendees must go through a security check to enter the building. Non-U.S. Citizen attendees must notify Steven Hirsch of their planned attendance at least 20 business days prior to the meeting in order to facilitate their entry into the building. All attendees are required to present government-issued identification prior to entry.

Maria G. Button,
Director, Division of the Executive Secretariat.

[FR Doc. 2019-16770 Filed 8-5-19; 8:45 am]

BILLING CODE 4165-15-P